DEPARTMENT OF HEALTH AND HUMAN SERVICES

Agency for Toxic Substances and Disease Registry

[Program Announcement 02112]

Asthma and Hazardous Substances, Applied Research and Development; Notice of the Availability of Funds

A. Purpose

The Agency for Toxic Substances and Disease Registry (ATSDR) announces the availability of fiscal year (FY) 2002 funds for a cooperative agreement program to conduct research on the impact of hazardous substances on asthma. This program addresses the “Healthy People 2010” focus area of Environmental Health.

The purpose of this program is to: (1) Link secondary data sources available for asthma with data on environmental contamination to evaluate the contribution of environmental exposures to asthma occurrence or morbidity among one or more communities exposed to hazardous air pollutants; (2) provide scientific information about the association between hazardous substances and asthma morbidity; and (3) develop and apply a methodology which could serve as a useful model for other organizations when responding to questions concerning the health impact of air releases of hazardous substances.

Measurable outcomes of the program will be in alignment with the following performance goal for the Agency for Toxic Substances and Disease Registry (ATSDR): Developing and providing reliable, understandable information for people in affected communities and tribes and for stakeholders.

B. Eligible Applicants

Assistance will be provided to official public health agencies of States or their bona fide agents or instrumentalities. This includes the District of Columbia, American Samoa, the Commonwealth of Puerto Rico, the Virgin Islands, the Federated States of Micronesia, Guam, the Northern Mariana Islands, the Republic of the Marshall Islands, the Republic of Palau, and Federally recognized Indian Tribal governments. State organizations, including State universities, State colleges, and State research institutions, must establish that they meet their respective State's legislature definition of a State entity or political subdivision to be considered to be an eligible applicant.

Note: Title 2 of the United States Code section 1611 states that an organization described in section 501(c)(4) of the Internal Revenue Code that engages in lobbying activities is not eligible to receive Federal funds constituting an award, grant or loan.

C. Availability of Funds

Approximately $250,000 is available in FY 2002 to fund two to three awards. It is expected that the average award will be $100,000, ranging from $80,000 to $120,000. The awards are expected to begin on or about September 1, 2002, and will be made for a 12-month budget period within a project period of up to three years. Funding estimates may change.

Continuation awards within an approved project period will be made on the basis of satisfactory progress as evidenced by required reports and the availability of funds.

Use of Funds

Funds may be expended for reasonable program purposes, such as personnel, travel, supplies and services. Funds for contractual services may be requested; however, the primary recipient of ATSDR funds must perform a substantive role in carrying out project activities and not merely serve as a conduit for an award to another party or provide funds to an ineligible party. Equipment may be purchased with these funds, however, the equipment proposed should be appropriate and reasonable for the research activity to be conducted. Equipment may be acquired only when authorized, and the applicant should provide a justification of need to acquire equipment, a description of the equipment, and the cost of purchase versus lease. To the greatest extent practicable, equipment and products purchased with ATSDR funds should be made in the United States. ATSDR retains the right to request the return of all equipment which is in operable condition and was purchased with grant funds (upon completion of the project period).

Funding Priorities

Priority will be given to the proposed project that (1) is conducted in one or more areas where a completed air pathway has already been established for one or more hazardous substances from a particular point source. These hazardous substances, or urban air toxics (UATs), have been previously linked to asthma in the workplace and include: adehydes (such as formaldehyde), polyisocyanates/ isocyanates (such as toulene diisocyanate), acid anhydrides, and metals (such as cadmium); (2) includes a partnership between public health and environmental agencies; (3) clearly demonstrates a mechanism for community-based participation; and (4) demonstrates a new or innovative application of Geographic Information Systems (GIS).

D. Program Requirements

In conducting activities to achieve the purpose of this program, the recipient will be responsible for activities under 1. Recipient Activities, and ATSDR will be responsible for the activities listed under 2. ATSDR Activities.

1. Recipient Activities

a. Develop a research project which examines the possible relationship between hazardous air pollutants and asthma morbidity using available data sources. Provide scientific information concerning hazardous substances and asthma and develop a model for others to address the health impact of hazardous substances to stakeholders.

b. Develop study protocol for approval of project implementation.

c. Develop, field test, and revise data extraction instruments and models that estimate ambient exposure to hazardous pollutants.

d. Disseminate research results to community members, and publish in written format for distribution.

e. Provide evidence of collaborate efforts with the local health environmental agencies on proposed and future community outreach activities.

f. Provide plans for working collaboratively with representatives of the communit(ies).

g. Collaborate with partners on these program activities, and meet annually to coordinate planned efforts and review progress.

2. ATSDR Activities

a. Provide scientific, epidemiologic, and environmental assistance.

b. Provide assistance on the development of the protocol and evaluation of the data extraction instruments.

c. Facilitate external peer review of the protocol and final report.

d. Provide assistance to awardees on data analysis and interpretation of findings.

e. Provide technical assistance to awardees (if more than one award is made) to ensure a sharing of information and methodologies, as appropriate.

f. Provide assistance for the dissemination of information to community members resulting from this project.

g. Facilitate an annual meeting between awardees and partners to coordinate planned efforts and review progress.

E. Application Content

Use the information in the Program Requirements, Other Requirements, and Evaluation Criteria sections to develop the application content. Your application will be evaluated on the criteria listed so it is important to follow them in writing your program plan. The narrative should be no more than 30 pages, double-spaced, printed on one side, with 1 inch margins, and unreduced fonts (font size 12 point), on 8½ by 11 inch paper. Do not include any spiral or bound materials or pamphlets.

1. Title Page

The heading should include the title of the cooperative agreement announcement, the project title, the organization name, and the organization address, and the project director's name, address, and telephone number.

2. Abstract

A one page, singled-spaced, typed abstract must be submitted with the application. The heading should include the title of cooperative agreement announcement, project title, organization, name and address, project director and telephone number. This abstract should include a work plan identifying activities to be developed, activities to be completed, and a time line for completion of these activities.

3. Application Narrative

The narrative of each application must address the evaluation component in addition to the following:

a. Briefly state the applicant's understanding of the need or problem to be addressed, the purpose, and goals over the three year period of the cooperative agreement.

b. Describe in detail the objectives and the methods to be used to achieve the objectives of the project. The objectives should be specific, time-phased, measurable, and achievable during each budget period. The objectives should directly relate to the program goals. Identify the steps to be taken in planning and implementing the objectives and the responsibilities of the applicant for carrying out the steps.

c. Provide the name, qualifications, and proposed time allocation of the Principal Investigator who will be responsible for administering the project. Describe staff, experience, facilities, equipment available for performance of this project, and other resources that define the applicant's capacity or potential to accomplish the requirements stated above. List the names (if known), qualifications, and time allocations of the existing professional staff to be assigned to (or recruited for) this project. List the support staff available for performance of this project. List the available facilities, including space.

d. Document the applicant's expertise, and extent of experience in the areas of asthma, environmental health, and studies that link environmental databases with health indicators.

e. Provide letters of support or other documentation demonstrating coordination with the state health department and all other agencies or organizations described as participating in the project.

f. Describe how the affected communities will be involved in the proposed project.

g. State whether or not Humans are subjects in this proposal. (See Human Subjects in the Evaluation Criteria and Other Requirements sections.)

h. Describe how the CDC/ATSDR policy requirements will be met regarding the inclusion of women, ethnic, and racial groups in the proposed research. (See Women, Racial and Ethnic Minorities in the Evaluation Criteria and Other Requirements sections.)

4. Budget

Provide a detailed budget which indicates anticipated costs for personnel, equipment, travel, communications, supplies, postage, and the sources of funds to meet these needs. The applicant should be precise about the program purpose of each budget item. For contracts described within the application budget, applicants should name the contractor, if known; describe the services to be performed; and provide an itemized breakdown and justification for the estimated costs of the contract; the kinds of organizations or parties to be selected; the period of performance; and the method of selection. The budget narrative pages showing, in detail, how funds in each object class will be spent, should be placed directly behind form 424A and not in the body of the application.

F. Submission and Deadline

Letter of Intent (LOI)

In order for ATSDR to determine the level of interest in the program announcement, a non-binding letter of intent to apply is requested from potential applicants. The letter of intent should be submitted on or before June 30, 2002, to the Grants Management Specialist identified in the “Where to Obtain Additional Information” section of this announcement.

Application

Submit the original and two copies of PHS 5161-1 (OMB Number 0937-0189). Forms are available on the Centers for Disease Control and Prevention Internet address: http://www.cdc.gov/od/pgo/forminfo.htm.

On or before July 30, 2002, submit the application to:Technical Information Management—PA 02112, Procurement and Grants Office, Centers for Disease Control and Prevention, 2920 Brandywine Road, Room 3000, Atlanta, GA 30341-4146.

Deadline: Applications shall be considered as meeting the deadline if they are received on or before the deadline date.

Late Applications: Applications which do not meet the criteria above will be returned to the applicant.

G. Evaluation Criteria

Each application will be evaluated individually against the following criteria by an objective review group appointed by ATSDR.

1. Study Design and Methods (30 percent)

a. Adequacy of the study design and methodology for accomplishing the stated goals and objectives.

b. The degree to which efficient and innovative approaches are proposed to address the problems.

c. The extent to which the applicant's plans and schedule proposed for accomplishing the activities to be carried out in this project are clearly stated, are realistic given the length of the funding period, and can be achieved within the proposed budget.

d. Adequacy of the plan to establish partnerships with community(ies), local environmental agencies, and other relevant public and private groups and organizations.

e. The extent to which the applicant has met the CDC Policy requirements regarding the inclusion of women, ethnic, and racial groups in the proposed research.

This includes:

1. The proposed plan for the inclusion of both sexes and racial and ethnic minority populations for appropriate representation.

2. The proposed justification when representation is limited or absent.

3. A statement as to whether the design of the study is adequate to measure differences when warranted.

2. Program Personnel (20 percent)

a. Applicant's technical experience and understanding (e.g. in the areas of asthma, environmental health, and database linkage).

b. Qualifications and time allocation of the professional staff to be assigned to this project.

c. Extent to which the management staff and their working partners are clearly described.

3. Community Involvement and Dissemination of Results (20 percent)

Adequacy of the plan to address community concerns and create lines of communication. Adequacy of methods to disseminate the study results to state and local public health officials, tribal governments, Indian Health Service, community residents, and to other concerned individuals and organizations.

4. Understanding of the Problem (10 percent)

Responsiveness to the objectives of the cooperative agreement including:

a. The applicant's understanding of the problems related to community exposures to hazardous substances and concerns regarding morbidity from asthma.

b. Relevance of the proposed program to these and related problems.

5. Goals and Objectives (10 percent)

The extent to which the proposed goals and objectives are clearly stated and measurable. Applicants are required to provide Measures of Effectiveness that will demonstrate the accomplishment of the identified purpose of the cooperative agreement. Measures must be objective/quantitative and must measure the intended goals of the proposed project. These Measures of Effectiveness shall be submitted with the application and shall be an element of evaluation.

6. Facilities and Resources (10 percent)

The adequacy of the applicant's facilities, equipment, and other resources available for performance of this project.

7. Human Subjects (Not scored)

Does the application adequately address the requirements of 45 CFR Part 46 for the protection of human subjects?

8. Budget Justification (Not Scored)

The budget will be evaluated to the extent that it is reasonable, clearly justified, and consistent with the intended use of funds.

H. Other Requirements

Technical Reporting Requirements

Provide CDC with the original and two copies of:

1. Semi-annual progress report. The progress report will include a data requirement that demonstrates measures of effectiveness. (See Attachment III)

2. Financial Status Report (FSR) no more than 90 days after the end of the budget period.

3. Final financial status report and performance report, no more than 90 days after the end of the project.

Send all reports to the Grants Management Specialist identified in the “Where to Obtain Additional Information” section of this announcement.

The following additional requirements are applicable to this program. For complete description of each, see Attachment 1.

AR-1 Human Subjects Requirements

AR-2 Requirements of Inclusion of Women and Racial and Ethnic Minorities in Research

AR-7 Executive Order 12372 Review

AR-10 Smoke-Free Workplace Requirements

AR-11 Healthy People 2010

AR-12 Lobbying Restrictions

AR-17 Peer Review and Technical Reviews of Final Reports of Health Studies—ATSDR

AR-18 Cost Recovery—ATSDR

AR-19 Third Party Agreements—ATSDR

AR-22 Research Integrity

I. Authority and Catalog of Federal Domestic Assistance Number

This program is authorized in sections 104(i)(1)(E),(7) and (15) of the Comprehensive Environmental Response, Compensation, and Liability Act (CERCLA) as amended by the Superfund Amendments and Reauthorization Act (SARA) (42 U.S.C. 9604 (i)(1)(E),(7) and (15)). The Catalog of Federal Domestic Assistance number is 93.206.

J. Where To Obtain Additional Information

This and other ATSDR announcements can be found on the CDC home page Internet address— http://www.cdc.gov Click on “Funding” then “Grants and Cooperative Agreements.”

If you have questions after reviewing the content of all the documents, business management technical assistance may be obtained from: Edna Green, Grants Management Specialist, Centers for Disease Control and Prevention (CDC), Procurement and Grants Office, Acquisition and Assistance Branch B, Announcement 02112, 2920 Brandywine Road, Suite 3000, Atlanta, Georgia 30341-4146, Telephone (770) 488-2743, E-mail address: ecg4@cdc.gov.

For program assistance, contact: Sherri Berger-Frank, Deputy Branch Chief, Health Investigations Branch, Division of Health Studies, Agency for Toxic Substances and Disease Registry, 1600 Clifton Road, NE., Mail Stop E-31, Atlanta, Georgia 30333, Telephone: (404) 498-0606, E-mail address: Sberger@cdc.gov Or: Michelle Lackey, Epidemiologist, Health Investigations Branch, Division of Health Studies, Agency for Toxic Substances and Disease Registry, 1600 Clifton Road, NE., Mail Stop E-31, Atlanta, Georgia 30333, Telephone: (404) 498-0569, E-mail address: Mlackey@cdc.gov.

Dated: June 5, 2002.
Edward Schultz,
Acting Director, Procurement and Grants Office, Centers for Disease Control and Prevention.

[FR Doc. 02-14581 Filed 6-10-02; 8:45 am]

BILLING CODE 4163-70-P